DEPARTMENT OF HOMELAND SECURITY

Bureau of Customs and Border Protection

[Docket No. USCBP-2006-0037]

Expansion of Global Entry Pilot Program

AGENCY: Customs and Border Protection; Department of Homeland Security.

ACTION: General notice.

SUMMARY: Customs and Border Protection (CBP) is currently conducting a pilot international registered traveler program, referred to as Global Entry, at three airports. This document announces the expansion of the pilot to four additional airports and to additional terminals at one of the airports at which Global Entry is currently operational.

DATES: Effective Dates: The pilot will be expanded to include the additional locations on or after August 1, 2008. The exact starting date for each airport location will be announced on the CBP Web site at http://www.cbp.gov. The pilot will continue for a minimum of six months. Applications are currently being accepted and will be accepted for the duration of the pilot. Comments concerning this notice and all aspects of the announced pilot may also be submitted throughout the duration of the pilot.

FOR FURTHER INFORMATION CONTACT: Fiorella Michelucci, Office of Field Operations, (202) 344-2564.

SUPPLEMENTARY INFORMATION:

Background

In a General Notice published in the Federal Register (73 FR 19861) on April 11, 2008, CBP announced a pilot international registered traveler program, then referred to as International Registered Traveler (IRT), scheduled to commence operations at three initial airports on June 10, 2008. In a notice published in the Federal Register (73 FR 30416) on May 27, 2008, CPB announced that the program is now known as Global Entry and that the starting date had been moved to June 6, 2008. The pilot began operations as scheduled at three initial airport locations: John F. Kennedy International Airport, Jamaica, New York (JFK); the George Bush Intercontinental Airport, Houston, Texas (IAH); and the Washington Dulles International Airport, Sterling, Virginia (IAD).

The Global Entry pilot program allows for the expedited clearance of pre-approved, low-risk travelers into the United States. Among other things, the April 11, 2008 notice contained a description of the program, the eligibility criteria and the application and selection process. The April 11, 2008 notice further stated that the pilot would begin operation at a limited number of additional airports to be announced by a future notice published in the Federal Register. This notice announces these additional airports and the dates on which operation is expected to begin.

All aspects of the program as described in the April 11 notice are still in effect except for the changes set forth in this notice. Applications to participate are currently being accepted and will be accepted for the duration of the pilot. Comments will be accepted throughout the duration of the pilot to the addresses provided in the April 11, 2008 notice.

New Airports and Dates of Operation

The Global Entry pilot will begin on or after August 1, 2008, at the following airports: Los Angeles International Airport, Los Angeles, California (LAX); Hartsfield-Jackson Atlanta International Airport, Atlanta, Georgia (ATL); Chicago O'Hare International Airport, Chicago, Illinois (ORD); and Miami International Airport, Miami, Florida (MIA). Additionally, although the Global Entry pilot is currently operational at Terminal 4 of John F. Kennedy International Airport, Jamaica, New York (JFK), it will become operational at the remaining terminals of that airport as well, also on or after August 1, 2008. The exact dates of the expansion of the Global Entry pilot to the individual airports will be announced at http://www.cbp.gov.

Dated: August 8, 2008.
Thomas S. Winkowski,
Assistant Commissioner, Office of Field Operations.

[FR Doc. E8-18724 Filed 8-12-08; 8:45 am]

BILLING CODE 9111-14-P